DEPARTMENT OF HEALTH AND HUMAN SERVICES

Centers for Medicare & Medicaid Services

[Document Identifier: CMS-10291 and CMS-10403]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: State Collection and Reporting of Dental Provider and Benefit Package Information on the Insure Kids Now! Web site and Hotline; Use: The Children's Health Insurance Program Reauthorization Act of 2009 (CHIPRA) sections 501(f)(1) and (2), requires that state-specific information on dental providers and benefits be posted on the Insure Kids Now (IKN) Web site and available on the hotline. States must update the information on the dental providers quarterly and the information on their benefit package annually. CMS is asking States to submit their dental benefits in a revised format that is designed to reduce the amount of time States have to spend in compiling the dental benefit information. Although in the past we allowed States to only check a box to indicate that the Medicaid dental benefits were in compliance with Early and Periodic Screening, Diagnostic and Treatment (EPSDT) services, we are also modifying the form to ask States to include their Medicaid dental benefits in this form so those may also be posted on the Web site. In addition, we are asking States to specify if they have a dollar or code limit at which point prior authorization is required for any additional services and if they have cost sharing requirements for dental services; Form Number: CMS-10291 (OMB #: 0938-1065); Frequency: Yearly (dental benefits) and quarterly (dental providers); Affected Public: State, Local, or Tribal Governments; Number of Respondents: 51; Total Annual Responses: 255; Total Annual Hours: 190. (For policy questions regarding this collection contact Nancy Goetschius at 410-786-0707. For all other issues call 410-786-1326.)

2. Type of Information Collection Request: New collection; Title of Information Collection: Community-based Care Transitions Program (CCTP) Implementation and Monitoring; Use: The Medicare Community-Based Care Transitions Program (CCTP), authorized by Section 3026 of the 2010 Affordable Care Act, is a major component of the Partnership for Patients initiative, one goal of which is to decrease preventable complications during transition from a care setting, such as a hospital, to home, community, or another care setting. Appendix A contains a copy of the relevant portion of the legislation.

The CCTP will provide funding to test models for improving care transitions from the hospital to the community for high-risk Medicare beneficiaries. The Centers for Medicare & Medicaid Services (CMS) initiated the CCTP in early 2011 and will operate the program for five years. Congress has authorized $500 million to cover the cost of the program. CMS expects that program agreements will be in place to authorize community-based organizations (CBOs), in partnership with acute care hospitals, to begin providing care transition services in November 2011 and, if successful, continue doing so for up to five years. The planned collection of a participant experience survey is part of the implementation and monitoring strategy that will review the performance of organizations contracted to provide transitional care services under the CCTP. This clearance package seeks approval for the participant experience survey.

Form Number: CMS-10403 (OMB # 0938-New); Frequency: Once; Affected Public: Individuals or Households; Number of Respondents: 50,000; Total Annual Responses: 50,000; Total Annual Hours: 12,500. (For policy questions regarding this collection contact Juliana Tiongson at 410-786-0342. For all other issues call 410-786-1326.)

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on November 21, 2011.

OMB, Office of Information and Regulatory Affairs, Attention: CMS Desk Officer.

Fax Number: (202) 395-6974.

E-mail: OIRA_submission@omb.eop.gov.

Dated: October 18, 2011.
Martique Jones,
Director, Regulations Development Group, Division B, Office of Strategic Operations and Regulatory Affairs.

[FR Doc. 2011-27300 Filed 10-20-11; 8:45 am]

BILLING CODE 4120-01-P